ELECTION ASSISTANCE COMMISSION

Publication of State Plan Pursuant to the Help America Vote Act

AGENCY: U.S. Election Assistance Commission (EAC).

ACTION: Notice.

SUMMARY: Pursuant to sections 254(a)(11)(A) and 255(b) of the Help America Vote Act (HAVA), Public Law 107-252, the U.S. Election Assistance Commission (EAC) hereby causes to be published in the Federal Register material changes to the HAVA State plan previously submitted by American Samoa.

DATES: This notice is effective June 29, 2006.

FOR FURTHER INFORMATION CONTACT: Bryan Whitener, Telephone 202-566-3100 or 1-866-747-1471 (toll-free).

Submit Comments: Any comments regarding the plans published herewith should be made in writing to the chief election official of the individual State at the address listed below.

SUPPLEMENTARY INFORMATION: On March 24, 2004, the U.S. Election Assistance Commission published in the Federal Register the original HAVA State plans filed by the fifty States, the District of Columbia and the Territories of American Samoa, Guam, Puerto Rico, and the U.S. Virgin Islands. 69 FR 14002. HAVA anticipated that States, Territories and the District of Columbia would change or update their plans from time to time pursuant to HAVA section 254(a)(11) through (13). HAVA sections 254(a)(11)(A) and 255 require EAC to publish such updates. EAC has not previously published an update to the American Samoa State plan.

The submission from American Samoa addresses material changes in the State budget of its previously submitted State plan and, in accordance with HAVA section 254(a)(12), provides information on how the State succeeded in carrying out its previous State plan. The amendment specifically focuses on using a majority of the requirements payments received by American Samoa to construct a new hurricane proof central elections office for the territory. American Samoa's new central election office will provide classroom space for voter education and election official training, expanded walkways and hallways, and construct elevators or ramps for easier access by voters with disabilities, and provide additional parking for better access by voters.

Upon the expiration of thirty days from June 29, 2006, American Samoa will be eligible to implement the material changes addressed in the plan that is published herein, in accordance with HAVA section 254(a)(11)(C).

EAC notes that the plan published herein has already met the notice and comment requirements of HAVA section 256, as required by HAVA section 254(a)(11)(B). EAC wishes to acknowledge the effort that went into revising this State plan and encourages further public comment, in writing, to the State election official listed below.

Chief State Election Officials

American Samoa

Mr. Soliai T. Fuimaono, Chief Election Official, American Samoa Election Office, P.O. Box 3970, Pago Pago, American Samoa 96799, Phone: (684) 633-2522, Fax: (684) 633-7116, E-mail: Asgelect@samoatelco.com.

Thank you for your interest in improving the voting process in America.

Dated: June 21, 2006.
Paul S. DeGregorio,
Chairman, U.S. Election Assistance Commission.

BILLING CODE 6820-KF-P

[FR Doc. 06-5774 Filed 6-28-06; 8:45 am]

BILLING CODE 6820-KF-C